DEPARTMENT OF HOUSING AND URBAN DEVELOPMENT

[Docket No. FR-4786-N-01]

Notice of Availability of Revised Public Housing Occupancy Guidebook and Request for Comments

AGENCY: Office of the Assistant Secretary for Public and Indian Housing, HUD.

ACTION: Notice of availability and request for comments.

SUMMARY: This notice advises the public that HUD is revising the Public Housing Occupancy Guidebook (Occupancy Guidebook) and will make available a copy of the draft, revised Occupancy Guidebook on the HUD Web site and invites interested parties to comment on HUD's revised Occupancy Guidebook.

DATES: Comment Due Date: September 16, 2002.

ADDRESSES: A copy of HUD's revised Occupancy Guidebook can be obtained via the World Wide Web at http://www.hud.gov/offices/pih/programs/phrhiip/index.cfm or by calling the Public and Indian Housing Resource Center at 1-800-955-2232. Interested persons may also submit comments regarding this Notice to the Attention of Public Housing Occupancy Guidebook Comments, Department of Housing and Urban Development, Office of Public and Indian Affairs, Room 4224, 451 Seventh Street, SW., Washington, DC 20410. Communications should refer to the above docket number and title. Comments may also be submitted by e-mail to: occupancy guidebook comments@hud.gov.

FOR FURTHER INFORMATION CONTACT: Patricia Arnaudo, Director, Customer Services and Amenities Division 451 Seventh Street, SW., Washington, DC 20410-2000; telephone number (202) 708-0744 ext. 4250. A telecommunications device (TDD) for hearing and speech-impaired persons is available at (202) 708-0455. (These are not toll-free numbers.)

SUPPLEMENTARY INFORMATION: HUD is revising the Public Housing Occupancy Guidebook (Occupancy Guidebook) as part of HUD's Rental Housing Integrity Improvement Project (RHIIP). RHIIP is a Secretarial initiative designed to reduce subsidy payment errors and to ensure that the right benefit is going to the right person. The Occupancy Guidebook provides assistance to owners, management agents, residents, contract administrators and HUD staff on the admission and continued occupancy for approximately 1.5 million public housing and 1.8 million tenant based Section 8 rental housing vouchers in housing units.

In order to improve the quality of HUD's revised Occupancy Guidebook, HUD has determined to make copies available for public comment. The document is not in final form and remains under review by the Department. Copies of HUD's draft, revised Occupancy Guidebook will be available for a period of ten (10) business days beginning August 30, 2002, at the HUD Web site http://www.hud.gov/offices/pih/programs/phrhiip/index.cfm. Members of the public without access to the World Wide Web may obtain a copy of the revised Occupancy Guidebook by contacting the Public and Indian Housing Resource Center at 1-800-955-2232.

Public input is solicited on the overall scope and direction of the revised Occupancy Guidebook. Interested members of the public may submit comments either electronically or by overnight mail to the addresses listed in the Addresses section above. To be most helpful, comments must be identified by specific page and paragraph references and must be received by September 16, 2002.

Dated: August 27, 2002.
Milan Ozdinec,
Deputy Assistant Secretary for Public Housing Investments.

[FR Doc. 02-22207 Filed 8-29-02; 8:45 am]

BILLING CODE 4210-33-P